DEPARTMENT OF LABOR

Occupational Safety and Health Administration

[Docket No. OSHA-2009-0025]

Underwriters Laboratories, Inc.: Grant of Renewal of Recognition

AGENCY: Occupational Safety and Health Administration (OSHA), Labor.

ACTION: Notice.

SUMMARY: This notice announces the Occupational Safety and Health Administration's final decision granting renewal of recognition of Underwriters Laboratories, Inc., as a Nationally Recognized Testing Laboratory (NRTL) under 29 CFR 1910.7.

DATES: The renewal of recognition becomes effective on July 14, 2014.

FOR FURTHER INFORMATION CONTACT: Information regarding this notice is available from the following sources:

Press inquiries: Contact Mr. Frank Meilinger, Director, OSHA Office of Communications, U.S. Department of Labor, 200 Constitution Avenue NW., Room N-3647, Washington, DC 20210; telephone: (202) 693-1999; email: Meilinger.francis2@dol.gov.

General and technical information: Contact Mr. David Johnson, Director, Office of Technical Programs and Coordination Activities, Directorate of Technical Support and Emergency Management, Occupational Safety and Health Administration, U.S. Department of Labor, 200 Constitution Avenue NW., Room N-3655, Washington, DC 20210; telephone: (202) 693-2110; email: johnson.david.w@dol.gov. OSHA's Web page includes information about the NRTL Program (see http://www.osha.gov/dts/otpca/nrtl/index.html).

SUPPLEMENTARY INFORMATION:

I. Background

OSHA recognition of an NRTL signifies that the organization meets the requirements specified by 29 CFR 1910.7. Recognition is an acknowledgment that the organization can perform independent safety testing and certification of the specific products covered within its scope of recognition, and is not a delegation or grant of government authority. As a result of recognition, employers may use products properly approved by the NRTL to meet OSHA standards that require testing and certification. OSHA maintains an informational Web site for each NRTL at http://www.osha.gov/dts/otpca/nrtl/index.html that details its scope of recognition available.

OSHA processes applications submitted by an NRTL for renewal of recognition following requirements in Appendix A to 29 CFR 1910.7. OSHA conducts renewals in accordance with the procedures in 29 CFR 1910.7, App. A II.C. In accordance with these procedures, NRTLs submit a renewal request to OSHA between nine months and one year before the expiration date of its current recognition. A renewal request includes a request for renewal and any additional information demonstrating its continued compliance with the terms of its recognition and 29 CFR 1910.7. If OSHA has not conducted an on-site assessment of the NRTL headquarters and any key sites within the past 18 to 24 months, it will schedule the necessary on-site assessment prior to the expiration date of the NRTL's recognition. Upon review of the submitted material and, as necessary, the successful completion of the on-site assessment, OSHA announces its preliminary decision to grant or deny renewal in the Federal Register and solicits comments from the public. OSHA then publishes a final Federal Register notice responding to any comments and renewing the NRTL's recognition for a period of five years, or denying the renewal of recognition.

Underwriters Laboratories, Inc. (UL), initially received OSHA recognition as an NRTL on June 13, 1988 (see 60 FR 33852, June 29, 1995). The most recent renewal for UL was on May 8, 2002, for a five-year period expiring on May 8, 2007. UL submitted a timely request for renewal, dated July 27, 2006 (see Ex. OSHA-2009-0025-0006), and retained its recognition pending OSHA's final decision in this renewal process. The current addresses of the UL facilities recognized by OSHA and included as part of the renewal request are:

(1) UL Northbrook, 333 Pfingsten Road, Northbrook, Illinois 60062;

(2) UL International Netherlands B.V., Delta 1A, Business Park IJsseloord 2, Arnhem, Netherlands 6825 ML;

(3) UL International Italia S.r.l., Via Archimede, 42, Agrate Brianza, Italy 20041;

(4) UL International Services, Ltd. Taiwan, 1st Floor, 260 Da-Yeh Road, Pei Tou District, Taipei City, Taiwan 112;

(5) UL Japan, 4383-326 Asam-cho, Ise-shi, Japan 516-0021;

(6) UL San Jose, 455 Trimble Road, San Jose, California 95131;

(7) UL Melville, 1285 Walt Whitman Road, Mellville, New York 11747;

(8) UL International Germany GmbH, Admiral-Rosendahl-Strasse 9, 23, Neu-Isenburg 63263;

(9) UL Canada, 7 Underwriters Road, Toronto, Ontario, Canada MiR 3A9;

(10) UL Research Triangle Park, 12 Laboratory Drive, P.O. Box 13995, Research Triangle Park, North Carolina 27709;

(11) UL International Denmark A/S, Borupvang 5A, Ballerup, Denmark DK-2750;

(12) UL International UK Ltd., Wonersh House; The Guildway; Old Portsmouth Road, Guilford, Surrey, United Kingdom, GU3 1LR;

(13) UL International Limited Hong Kong, 18th Floor, Delta House, 3 On Yiu Street, Shatin, Hong Kong;

(14) UL Camas, 2600 NW., Lake Road, Camas, Washington 98607; and

(15) UL Korea, 33rd Floor Gangnam Finance Center, 737 Yeoksam-dong Gangnam-gu, Seoul, Korea 135-984.

OSHA evaluated UL's application for renewal and made a preliminary determination that UL can continue to meet the requirements prescribed by 29 CFR 1910.7 for recognition. OSHA conducted audits of UL's headquarters, UL Northbrook on September 10-11, 2013, and on April 4-7, 2011. OSHA staff also performed audits of the: UL International Services, Ltd. Taiwan site on November 6-7, 2008; UL Melville site on October 20-22, 2008; UL International Germany GmbH on June 22-23, 2009; UL Research Triangle Park site on February 14-15, 2013; of the UL International Denmark A/S site on June 22-23, 2008, and on April 22-23, 2013; UL International UK Ltd. site on April 18-19, 2011; and UL International Limited Hong Kong site on November 3-4, 2008. OSHA found non-conformances with the requirements of 29 CFR 1910.7. UL addressed these issues sufficiently to meet the applicable NRTL requirements. Accordingly, OSHA determined that it did not need to conduct an on-site review of UL's facilities for this request for renewal, based on its evaluation of UL's application and all other available information.

OSHA published the preliminary notice announcing UL's renewal request in the Federal Register on February 25, 2014 (79 FR 10568). The Agency requested comments by March 12, 2014, but received no comments in response to this notice. OSHA now is proceeding with this final notice to grant UL's request for renewal of recognition.

To obtain or review copies of all public documents pertaining to the UL's application, go to www.regulations.gov or contact the Docket Office, Occupational Safety and Health Administration, U.S. Department of Labor, 200 Constitution Avenue NW., Room N-2625, Washington, DC 20210. Docket No. OSHA-2009-0025 contains all materials in the record concerning UL's recognition.

II. Final Decision and Order

Pursuant to the authority granted under 29 CFR 1910.7, OSHA hereby gives notice of the renewal of recognition of UL as an NRTL. OSHA NRTL Program staff reviewed the renewal request for UL and other pertinent information. Based on this review of the renewal request for UL and other pertinent information, OSHA finds that UL meets the requirements of 29 CFR 1910.7 for renewal of its recognition, subject to the specified limitation and conditions. OSHA limits the renewal of UL's recognition to include the terms and conditions of UL's scope of recognition. The scope of recognition for UL is available in the Federal Register notice dated June 29, 1995 (60 FR 33852), or on OSHA's Web site at http://www.osha.gov/dts/otpca/nrtl/ul.html.

Conditions

In addition to those conditions already required by 29 CFR 1910.7, UL also must abide by the following conditions of recognition:

1. UL must inform OSHA as soon as possible, in writing, of any change of ownership, facilities, or key personnel, and of any major change in its operations as an NRTL, and provide details of the change(s);

2. UL must meet all the terms of its recognition and comply with all OSHA policies pertaining to this recognition; and

3. UL must continue to meet the requirements for recognition, including all previously published conditions on UL's scope of recognition, in all areas for which it has recognition.

III. Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2), Secretary of Labor's Order No. 1-2012 (77 FR 3912, Jan. 25, 2012), and 29 CFR 1910.7.

Signed at Washington, DC, on July 9, 2014.
David Michaels,
Assistant Secretary of Labor for Occupational Safety and Health.

[FR Doc. 2014-16434 Filed 7-11-14; 8:45 am]

BILLING CODE 4510-26-P